DEPARTMENT OF COMMERCE

Census Bureau

Agency Information Collection Activities; Submission to the Office of Management and Budget (OMB) for Review and Approval; Comment Request; Automated Export System Program

AGENCY: Census Bureau, Department of Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed extension of the Automated Export System Program, prior to the submission of the information collection request (ICR) to OMB for approval.

DATES: To ensure consideration, comments regarding this proposed information collection must be received on or before November 10, 2025.

ADDRESSES: Interested persons are invited to submit written comments by email to Thomas.J.Smith@census.gov or PRAcomments@doc.gov. Please reference Automated Export System Program in the subject line of your comments. You may also submit comments, identified by Docket Number USBC-2025-0138, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Kiesha Downs, Assistant Division Chief, Data User and Respondent Outreach, U.S. Census Bureau, 4600 Silver Hill Road, Washington, DC 20233-6700, (301) 763-7079, or by email kiesha.downs@census.gov.

SUPPLEMENTARY INFORMATION:

I. Abstract

Title 13, United States Code (U.S.C.), Chapter 9, Section 301 authorizes the U.S. Census Bureau (Census Bureau) to collect, compile and publish trade data. Title 15, Code of Federal Regulations (CFR), Part 30, known as the Foreign Trade Regulations (FTR), contains the regulatory provisions for preparing and filing Electronic Export Information (EEI) in the Automated Export System (AES). The Census Bureau uses the AES or successor system as the instrument for collecting export trade data from parties exporting commodities from the United States. In addition to the collection of data, the Census Bureau compiles these export data from the AES and these data are the basis for the official U.S. trade statistics on exports of commodities. These statistics are used to determine the balance of international trade and are designated for use as a principal economic indicator. The Census Bureau releases these statistics monthly according to the U.S. International Trade in Goods and Services Press Release Schedule.

These data are used in the development of U.S. government economic and foreign trade policies, including export control purposes under Title 50, U.S.C. The Bureau of Industry (BIS) and Security, U.S. Customs and Border Protection (CBP), and other enforcement agencies use these data to detect and prevent the export of certain items by unauthorized parties to unauthorized destinations or end users. Additionally, the data enables U.S. businesses to develop practical export marketing strategies as well as provide a means for the assessment of the impact of exports on the domestic economy.

The Census Bureau recognizes that any FTR revisions must maintain our ability to collect, compile, and deliver complete, accurate, and timely trade statistics while also supporting export control and enforcement efforts. To that end, on May 3, 2023, the Census Bureau issued a Notice of Proposed Rule Making (NPRM) titled “Foreign Trade Regulations (FTR): State Department Directorate of Defense Trade Controls Filing Requirement and Clarifications to Current Requirements.” The NPRM proposed to amend its regulations to reflect new export reporting requirements related to the U.S. Department of State, Directorate of Defense Trade Controls (DDTC) Category XXI Determination Number. Specifically, the Census Bureau proposed to add a conditional data element, DDTC Category XXI Determination Number, when “21” is selected in the DDTC United States Munitions List (USML) Category Code field in the AES to represent USML Category XXI. This change was proposed to prevent a subset of exporters from using the incorrect USML category codes. These changes outlined in this NPRM were subsequently implemented in the final rule issued on August 10, 2023. This rule also implemented corrective changes to the FTR, including revised International Traffic in Arms Regulations (ITAR) references for existing data elements such as the DDTC Significant Military Equipment Indicator and DDTC Eligible Party Certification Indicator, along with other remedial modifications originally proposed in the NPRM published on December 15, 2021, titled “Foreign Trade Regulations (FTR): New Filing Requirement and Clarifications to Current Requirements”. Once implemented, the improper use of DDTC Category XXI significantly decreased and as a result the number of shipments went from approximately 77,000 prior to the implementation of this rule (January 2023 to August 2023) to three during the same period in 2025. These changes did not impact the reporting burden for the export trade community as only a subset of exporters were impacted; however, the rule increased the accuracy of the data collected and improved export compliance with the ITAR.

In the NPRM published on December 15, 2021, the Census Bureau also proposed adding the country of origin as a conditional data element. This field would only be required when foreign origin is selected in the Foreign/Domestic Origin Indicator field in the AES. Currently, foreign trade statistics lack the detail needed to identify domestic production gaps, evaluate supply chain vulnerabilities, or effectively address trade imbalances. The collection of country of origin would allow the Census Bureau to improve its foreign trade data products used by both internal and external stakeholders. After publication, the Census Bureau received multiple comments expressing concerns about the regulatory burden this new requirement would place on the trade community. The Census Bureau evaluated the comments and considered a different regulatory approach to address the concerns regarding the addition of the country of origin field based on suggestions from the trade community. The Census Bureau published an NPRM titled “Foreign Trade Regulations (FTR): Clarification of Filing Requirements Regarding In-transit Shipments and other FTR Provisions” on October 31, 2024, in an attempt to do so.

In this rule, the Census Bureau proposed to revise the existing conditional data element for entry number to require the entry number when foreign origin goods are entered into the United States for consumption or warehousing and then stored in a warehouse or storage facility or admitted into a FTZ before being exported. It was determined that the entry number field would provide the Census Bureau with the necessary link to CBP entry data in order to derive the country of origin from existing data as opposed to collecting it through a new field. In addition to proposing an alternative means of collecting country of origin, the NPRM proposed to clarify its regulations governing in-transit shipments from foreign countries through the United States that are subsequently exported to a foreign destination and revise several regulatory sections, including definitions, filing requirements, responsibilities of parties to the export transaction, confidentiality protocols, penalty provisions, and voluntary self-disclosure processes to ensure greater clarity, accuracy, and consistency throughout the FTR.

Despite the proposed alternative to use the existing entry number field, the trade community further disagreed that entry number would not be a viable solution as there were burdens with this requirement as well. The concerns identified were related to cost and operational challenges, software system limitations, and the inability to identify a one-to-one relationship between the admission of goods to an FTZ and the entire shipment of goods exported. The comments indicated that the Census Bureau should add a country of origin data element as was originally proposed in 2021 in lieu of requiring the entry number field. The Census Bureau appreciates the trade community's concern that the proposed entry number requirement could potentially create reporting challenges and result in inaccurate or missed data. The Census Bureau also appreciates the trade community's reconsideration of reporting country of origin and supports the suggestions to collect the country of origin field instead of utilizing the entry number field.

Additionally, previous OMB Clearance Packages highlighted concerns about the continued inclusion of the State of Origin field in the AES. Members of the trade community recommended the State of Origin field be removed because it is duplicative information that is captured in the previously named Address of the USPPI section. This concern was also highlighted in the comments received from the NPRM issued October 31, 2024. Acknowledging the redundancy between the USPPI address and the state of origin fields, the Census Bureau addressed this in the NPRM by renaming Address of the USPPI to Address of Origin in both the FTR and the AES. The revised naming convention provides greater clarity by making the naming convention more intuitive, which will closer align with what was already required—the filer must report the address of origin based on the location where goods begin their journey to the port of export as opposed to the headquarters address. To enhance awareness of this requirement, the Census Bureau launched several outreach initiatives targeting the trade community who received AES compliance alert 26C, which were triggered when the State of Origin and formerly named Address of the USPPI did not match.

The changes outlined in this NPRM were subsequently implemented in the final rule issued on August 14, 2025, with the exception of the entry number provision as discussed previously. Instead, the Census Bureau clarified the current definition for entry number and confirmed its intent to collect country of origin data element. The Census Bureau will issue a separate rule to address the implementation of a country of origin data element at a later time. Additionally, the Census Bureau acknowledges the duplicative nature of the State of Origin data element and plans to revisit this issue in a future rule as well. Overall, these changes did not impact the reporting burden of the export trade community.

II. Method of Collection

Automated Export System

Except as noted in Title 15 CFR, Part 30, Section 30.2(a)(1)(iv), EEI is required for all export shipments of goods valued over $2,500 per Schedule B or Harmonized Tariff Schedule of the United States commodity classification number from the United States, including Foreign Trade Zones located therein, Puerto Rico, and the U.S. Virgin Islands to foreign countries; for exports between the United States and Puerto Rico; and for exports to the U.S. Virgin Islands from the United States or Puerto Rico. Additionally, an AES record is required for the export of rough diamonds, used self-propelled vehicles, exports requiring an export license from any government agency, exports controlled by the ITAR, or exports that meet certain mandatory filing requirements defined by the BIS under the Export Administration Regulations. The AES program is unique among Census Bureau statistical collections since it is not sent to respondents to solicit responses, as is the case with surveys. Filing EEI via the AES is a mandatory process under the statutory authority of Title 13 U.S.C., Chapter 9, Section 301. The statutory requirement is implemented by Title 15, CFR, Part 30, also referred to as the FTR. The export trade community can access the AES via a free internet-based system, called AESDirect, or they can use software that connects directly with the Automated Commercial Environment (ACE). In most instances, the United States Principal Party in Interest or authorized agent must file EEI via the AES and annotate the commercial loading documents with the proof of filing citation prior to the export of a shipment. For scenarios where the EEI filing is not required, the proper exemption or exclusion legend must be noted on the commercial loading documents per Section 30.7 of the FTR.

For exports to Canada, a Memorandum of Understanding (MOU) signed by CBP, Canada Border Services Agency, Statistics Canada, and the Census Bureau enables the United States to substitute Canadian import statistics for U.S. export statistics. Similarly, in accordance with the MOU, Canada substitutes U.S. import statistics for Canadian exports to the United States. This exchange of data eliminates the requirement for the export trade community to file the EEI with the U.S. Government for the majority of export shipments to Canada, thus resulting in the elimination of over 12 million EEI records filed in the AES annually. EEI must be filed through the AES for export shipments to Canada that require mandatory EEI filing under Title 15 CFR, Part 30, Section 30.2(a)(1)(iv). In addition, export shipments from the United States through Canada destined to a country other than Canada require EEI filing in the AES.

The AES enables the U.S. Government to significantly improve the quality, timeliness, and coverage of export statistics. Since July 1995, the Census Bureau and the CBP have utilized the AES to improve the reporting of export trade information, customer service, increase compliance with and enforcement of export laws, and to provide paperless reports of export information. The AES also enables the U.S. Government to increase its ability to prevent the export of certain items by unauthorized parties to unauthorized destinations and end users through electronic filing.

In addition to the AES, CBP continues to develop the ability to receive advance export manifest data, which may improve the accuracy of transportation data elements in the EEI filing and reduce updates to shipment information. CBP has issued an NPRM for Rail Cargo and continues to work on air, truck, and ocean cargo. Operational guidance and implementation of each mode is still under development from CBP. The Census Bureau continues evaluating the collection of data from the electronic export rail and vessel manifest for filings received in the pilot program. The evaluation has proven that transportation data provided by the carrier is more accurate than transportation data estimated by the U.S. Principal Party in Interest and authorized agent. The Census Bureau's evaluation of the data quality from the electronic export rail manifest included the data elements: method of transportation, date of export, port of export, carrier identification and carrier name and foreign port of unlading.

Steel Mill Statistics

The Department of Commerce (DOC) has maintained authorization since 1999 to publish steel mill product import data prior to the standard monthly trade statistics publication. To effectively monitor steel imports, the International Trade Administration depends extensively on preliminary steel mill import statistics supplied by the Census Bureau. This early access enables industry stakeholders to detect emerging trends and potential trade pattern changes, facilitating timely responsive measures. Following the 2019 AES Program revisions, the Census Bureau no longer requires separate annual OMB approval for early release of preliminary steel mill import statistics, as this authorization is now incorporated within the current clearance.

The Foreign Trade Regulations (FTR), subpart F, establishes general requirements for submitting import entries to CBP through the ACE system under 19 CFR provisions, which serves as the data source for steel mill product import information.

III. Data

OMB Control Number: 0607-0152.

Form Number(s): Automated Export System.

Type of Review: Regular submission, Request for an Extension, without Change, of a Currently Approved Collection.

Affected Public: Exporters, Export Carriers, Forwarding and/or Authorized agents.

Estimated Number of Respondents: 278,207 respondents resulting in 16,768,118 annual responses.

Estimated Time per Response: 3 minutes per AES submission.

Estimated Total Annual Burden Hours: 838,406.

Estimated Total Annual Cost to Public: $ 22,335,136.

Respondent's Obligation: Mandatory.

Legal Authority: Title 13 United States Code, Chapter 9, Section 301.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-17568 Filed 9-10-25; 8:45 am]

BILLING CODE 3510-07-P